ENVIRONMENTAL PROTECTION AGENCY

[OPP-2003-0405; FRL-7352-4]

Pesticide Products; Registration Approval

AGENCY: Environmental Protection Agency (EPA).

ACTION: Notice.

SUMMARY: This notice announces Agency approval of applications to register the pesticide products VWX-42 Technology Glycerol Monocaprylate, VWX-42 Technology Glycerol Monocaprate, VWX-42 Technology Glycerol Monolaurate, VWX-42 Technology Propylene Glycol Monocaprylate, VWX-42 Technology Propylene Glycol Monocaprate and VWX-42 Technology Propylene Glycol Monolaurate containing active ingredients not included in any previously registered product pursuant to the provisions of section 3(c)(5) of the Federal Insecticide, Fungicide, and Rodenticide Act (FIFRA), as amended.

FOR FURTHER INFORMATION CONTACT: Carol E. Frazer, Biopesticides and Pollution Prevention Division (7511C), Office of Pesticide Programs, Environmental Protection Agency, 1200 Pennsylvania Ave., NW., Washington, DC 20460-0001; telephone number: (703) 308-8810; e-mail address:frazer.carol@epa.gov.

SUPPLEMENTARY INFORMATION:

I. General Information

A. Does this Action Apply to Me?

You may be potentially affected by this action if you are an agricultural producer, food manufacturer, or pesticide manufacturer. Potentially affected entities may include, but are not limited to:

• Crop production (NAICS 111)

• Animal production (NAICS 112)

• Food manufacturing (NAICS 311)

• Pesticide manufacturing (NAICS 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established an official public docket for this action under docket identification (ID) number OPP-2003-0405. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

In accordance with section 3(c)(2) of FIFRA, a copy of the approved label, the list of data references, the data and other scientific information used to support registration, except for material specifically protected by section 10 of FIFRA, are also available for public inspection. Requests for data must be made in accordance with the provisions of the Freedom of Information Act and must be addressed to the Freedom of Information Office (A-101), 1200 Pennsylvania Ave., NW., Washington, DC 20460-0001. The request should: Identify the product name and registration number and specify the data or information desired.

A paper copy of the fact sheet, which provides more detail on this registration, may be obtained from the National Technical Information Service (NTIS), 5285 Port Royal Rd., Springfield, VA 22161.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Did EPA Approve the Application?

The Agency approved the application after considering all required data on risks associated with the proposed use of VWX-42 Technology Glycerol Monocaprylate, VWX-42 Technology Glycerol Monocaprate, VWX-42 Technology Glycerol Monolaurate, VWX-42 Technology Propylene Glycol Monocaprylate, VWX-42 Technology Propylene Glycol Monocaprate and VWX-42 Technology Propylene Glycol Monolaurate, and information on social, economic, and environmental benefits to be derived from use. Specifically, the Agency has considered the nature of the chemical and its pattern of use, application methods and rates, and level and extent of potential exposure. Based on these reviews, the Agency was able to make basic health and safety determinations which show that use of these products when used in accordance with widespread and commonly recognized practice, will not generally cause unreasonable adverse effects to the environment.

III. Approved Application

EPA issued a notice, published in the Federal Register of November 1, 2001 (66 FR 55174)(FRL-6803-6), which announced that 3M/St. Paul MN 55144-1000, had submitted an application to register VWX-42 Technology, (EPA File Symbol 10350-AN), a family of biocides C8, C10, and C12 straight chain fatty acid monoesters of glycerol and propylene glycol, containing the active ingredients glycerol monocaprate, glycerol monocaprylate, glycerol monolaurate, propylene glycol monocaprate, propylene glycol monocaprylate, and propylene glycol monolaurate at 86.68%, 88.21%, 93.50%, 71.37%, 68.62%, and 75.85% respectively; as a manufacturing use product for products that control plant diseases and microbial contamination.

Subsequently, 3M submitted applications for each of the biocides separately, under the EPA File symbols 10350-AI, 10350-AU, 10350-AL, 10350-AN, 10350-AA, and 10350-AT. These products were not previously registered.

The products VWX-42 Glycerol Monocaprylate, VWX-42 Technology Glycerol Monocaprate, VWX-42 Technology Glycerol Monolaurate, VWX-42 Technology Propylene Glycol Monocaprylate, VWX-42 Technology Propylene Glycol Monocaprate, and VWX-42 Technology Propylene Glycol Monolaurate (EPA File Symbol 10350-AN), contain the active ingredients 88.21% glycerol monocaprylate, 86.68% glycerol monocaprate, 93.50% glycerol monolaurate, 71.37% propylene glycol monocaprate, 68.82% propylene glycol monocaprylate and 75.85% propylene glycol monolaurate respectively.

The applications listed below were approved for manufacturing use only on September 30, 2003 for these biocides containing 88.21% glycerol monocaprylate, 1.43% glycerol monocaprate and 10.36% other ingredients; 86.68% glycerol monocaprate, 0.68% glycerol monocaprylate and 12.64% other ingredients; 93.50% glycerol monolaurate, 0.23% glycerol monocaprate and 6.27% other ingredients; 68.82 propylene glycol monocaprylate, 0.15% propylene glycol monocaprate and 31.23% other ingredients; 71.37% propylene glycol monocaprate, 0.77% propylene glycol monocaprylate, 0.59% propylene glycol monolaurate and 27.86% other ingredients; and 75.85% propylene glycol monolaurate and 24.15% other ingredients respectively.

1. VWX-42 Technology Glycerol Monocaprylate (EPA registration number 10350-68);

2. VWX-42 Technology Glycerol Monocaprate (EPA registration number 10350-64)

3. VWX-42 Technology Glycerol Monolaurate (EPA registration number 10350-65)

4. VWX-42 Technology Propylene Glycol Monocaprylate (EPA registration number 10350-60)

5. VWX-42 Technology Propylene Glycol Monocaprate (EPA registration number 10350-66)

6. VWX-42 Technology Propylene Glycol Monolaurate (EPA registration number 10350-67)

List of Subjects

Environmental protection, Chemicals, Pesticides and pests.

Dated: April 1, 2004.
Phil Hutton,
Acting Director, Biopesticides and Pollution Prevention Division, Office of Pesticide Programs.

[FR Doc. 04-8101 Filed 4-13-04; 8:45 am]

BILLING CODE 6560-50-S